DEPARTMENT OF STATE

[Public Notice: 5854]

30-Day Notice of Proposed Information Collection: Form DS-117, Application to Determine Returning Resident Status, OMB Control Number 1405-0091

ACTION: Notice of request for public comment and submission to OMB of proposed collection of information.

SUMMARY: The Department of State has submitted the following information collection request to the Office of Management and Budget (OMB) for approval in accordance with the Paperwork Reduction Act of 1995.

• Title of Information Collection: Application to Determine Returning Resident Status.

• OMB Control Number: 1405-0091.

• Type of Request: Extension of a Currently Approved Collection.

• Originating Office: Bureau of Consular Affairs, Department of State (CA/VO).

• Form Number: DS-117.

• Respondents: Aliens applying for special immigrant classification as a returning resident.

• Estimated Number of Respondents: 875 per year.

• Estimated Number of Responses: 875.

• Average Hours Per Response: 30 minutes.

• Total Estimated Burden: 438 hours per year.

• Frequency: Once per respondent.

• Obligation to Respond: Required to Obtain or Retain a Benefit.

DATES: Submit comments to the Office of Management and Budget (OMB) for up to 30 days from July 2, 2007.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the proposed information collection and supporting documents, to Lauren Prosnik of the Office of Visa Services, U.S. Department of State, 2401 E. Street, NW. L-603, Washington, DC 20522, who may be reached at (202) 663-2951.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond. Abstract of proposed collection:

Form DS-117 is used by consular officers to determine the eligibility of an alien applicant for special immigrant status as a returning resident. Methodology:

Information will be collected in person at posts abroad. Additional Information:

Dated: June 7, 2007.
Stephen A. Edson,
Deputy Assistant Secretary, Bureau of Consular Affairs, Department of State.

[FR Doc. E7-12749 Filed 6-29-07; 8:45 am]

BILLING CODE 4710-06-P